FEDERAL COMMUNICATIONS COMMISSION

Notice of Public Information Collection Being Reviewed by the Federal Communications Commission, Comments Requested

February 17, 2010.

SUMMARY: The Federal Communications Commission, as part of its continuing effort to reduce paperwork burden invites the general public and other Federal agencies to take this opportunity to comment on the following information collection, as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology and (e) ways to further reduce the information burden for small business concerns with fewer than 25 employees.

The FCC may not conduct or sponsor a collection of information unless it displays a currently valid control number. No person shall be subject to any penalty for failing to comply with a collection of information subject to the Paperwork Reduction Act (PRA) that does not display a valid control number.

DATES: Persons wishing to comment on this information collection should submit comments by April 26, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via e-mail at Nicholas_A._Fraser@omb.eop.gov and to Cathy Williams, Federal Communications Commission (FCC), via e-mail at Cathy.Williams@fcc.gov and to PRA@fcc.gov.

FOR FURTHER INFORMATION CONTACT: For additional information about the information collection send an e-mail to PRA@fcc.gov or contact Cathy Williams at (202) 418-2918.

SUPPLEMENTARY INFORMATION:

OMB Control Number: 3060-0647.

Title: Annual Survey of Cable Industry Prices.

Form Number: Form 333.

Type of Review: Revision of a currently approved collection.

Respondents: Business or other for-profit entities; State, local or Tribal Government.

Number of Respondents and Responses: 758 respondents and 758 responses.

Estimated Time per Response: 6 hours.

Frequency of Response: Annual Reporting Requirement.

Total Annual Burden: 4,548 hours.

Total Annual Cost: None.

Obligation to Respond: Mandatory. The statutory authority for this information collection is in Sections 4(i) and 623(k) of the Communications Act of 1934, as amended.

Nature and Extent of Confidentiality: If individual respondents to this survey wish to request confidential treatment of any data provided in connection with this survey, they can do so upon written request, in accordance with Sections 0.457 and 0.459 of the Commission's rules. To receive confidential treatment of their data, respondents need only describe the specific information they wish to protect and provide an explanation of why such confidential treatment is appropriate.

Privacy Impact Assessment: No impact(s).

Needs and Uses: The Cable Television Consumer Protection and Competition Act of 1992 (“Cable Act”) requires the Commission to publish annually a report on average rates for basic cable service, cable programming service, and equipment. The report must compare the prices charged by cable operators subject to effective competition and those that are not subject to effective competition. The Annual Cable Industry Price Survey is intended to collect the data needed to prepare that report. The data from these questions are needed to complete this report.

Marlene H. Dortch,
Secretary, Federal Communications Commission.

Draft, Not Yet Approved by OMB

OMB Control Number: 3060-0647

Proposed 2010 Cable Service Price Survey Questionnaire, FCC Form 333

A. Community

The information in entries A1 through A3 below has been imported from the Cable Operations & Antenna (COALS) database. Please review this data and make any necessary corrections. If you would like the COALS database updated to reflect this information, click here:

A1. 6-digit community unit identification. (CUID) (1/1/10)

A2. Name of the community associated with this CUID. (1/1/10)

A3. Name of county in which the community is situated. (1/1/10)

A4. 5-digit Zip Code in community with the highest number (or significant portion) of subscribers. (1/1/10)

Local governments have authority to regulate the price of the basic service tier unless the FCC grants an “Effective Competition” petition for the franchise area. If the FCC has granted Effective Competition status, the answer to question A5 is “no”. If the FCC has not granted Effective Competition status, the answer depends on whether the local government exercises its authority to regulate the price of the basic service tier.

A5. Does the local government regulate the basic tier rate in this community? (yes/no) (1/1/10)

A6. Did you operate a video service in this community on 1/1/2009? (yes/no)

System

The information in entries A7 through A9 has been imported from the Cable Operations & Antenna (COALS) database. Please review the data and make any necessary corrections. If you would like the COALS database updated to reflect this information, click here.

A7. Name of cable system. (1/1/10)

A8. Street address and/or POB. (1/1/10)

A9. City, State and Zip Code. (1/1/10)

Parent Company

A10. Name of ultimate parent entity. (1/1/10)

A11. Name of survey contact person. (1/1/10)

A12. E-mail address of contact person. (1/1/10)

A13. Area Code & telephone number. (1/1/10)

A14. Number of video subscribers nationwide of parent entity. (1/1/10)

Certification

I certify that I have examined this report and all statements of fact herein are true, complete, and correct to the best of my knowledge, information, and belief, and are made in good faith. Willful false statements made on this form are punishable by fine and/or imprisonment (U.S. Code, Title 18, Section 1001) and/or forfeiture (U.S. Code, Title 47, Section 503).

A15. Name.

A16. Title.

A17. Date.

A18. Choose the system physical infrastructure that best describes your system from the drop down menu (hybrid fiber-coaxial cable, fiber to the home, twisted copper pair, other—please explain).

A19. Answer “yes” to one of Questions a-f, or explain in g, the scenario which best describes the way local broadcast television station signals you receive from local broadcasters are sent from the cable headend to subscribers.

a. System is analog only. Analog broadcast signals are received at the headend and sent to subscribers in analog format. No headend equipment is in place to convert a digital broadcast signal to analog format. (1/1/10)

b. System is analog only. Signals are sent in analog format from headend to subscribers. Headend equipment is in place to convert a broadcaster's digital signal to analog format, in case a station is digital only. (1/1/10)

c. Separate analog/digital signals are sent on separate paths from the headend to be viewed by analog and digital customers, respectively. Digital signal can be either SD or HD, with an HD version being converted by a SD digital subscriber's set-top box to SD format. (1/1/10)

d. Separate analog/SD digital/HD digital signals are sent from the headend to be viewed by analog, SD digital, and HD digital customers, respectively. (1/1/10)

e. SD digital signals only are sent from the headend, and the set-top box can covert the signals to analog format for viewing on analog television. (1/1/10)

f. HD digital signals only are sent from the headend, and the set-top box can convert the signals to SD digital format, and then to analog format if necessary. (1/1/10)

g. If none of the above, please describe.

A20. Number of local broadcast television stations transmitted over your system in this community. Count each local broadcast station only once. For example, if a local broadcast station is carried on one channel and simulcast in HD on another channel, these two channels count as one station for purpose of this question. (1/1/10)

A21. Of the local broadcast stations above, how many are carried under the FCC must-carry rules, i.e., not under retransmission consent? (Enter “0” if none.) (1/1/10)

A22. Of all the stations (must carry and retransmission consent), how many can be viewed in HD format? (Enter “0” if none.) (1/1/10)

A23. Of only the stations carried under the must-carry rules, how many can be viewed in HD format? (Enter “0” if none or if you have no must-carry stations.) (1/1/10)

B. Video Subscribers, Prices and Channels

Responses to questions B1 and B2 may be at the level of the video (or cable) system. In defining your system, use the smallest physical system area surrounding the community for which you maintain subscriber counts for video services.

B1. Number of households passed (households your system currently reaches and could provide service, regardless of whether or not these households subscribe to your service). (1/1/10)

B2. Number of video subscribers. (1/1/10, 1/1/09)

Responses to “yes/no” questions below, as well as responses for prices and channels should be provided at the community level. Number of subscribers may be in the system area.

B3. Total number of channels available in the community.* (1/1/10, 1/1/09)

B4. Do you offer high-speed Internet access? (yes/no) (1/1/10, 1/1/09)

* Count local broadcast stations, PEG channels, commercial leased access channels, and any networks viewable for customers. The count should include the maximum number of channels available, including channels that would require additional equipment, such as an SD or an HD converter box. Do not count audio-only channels such as DMX music suite. Do count premium, pay-per-view or other pay channels. A Video-on-Demand channel can be counted as one channel.

Basic Service Tier (BST)

BST is the entry level video (cable) TV programming package that subscribers can purchase. Typically, BST is a “limited basic” service which consists of local broadcast channels; public, educational, and governmental access (PEG) channels; and a few national and/or other channels. In contrast to the “limited basic” tier just described, some operators only offer a BST bundled with a large number of national networks. For these operators, the bundled service should be reported as the BST. Whether limited basic or bundled, the BST should be the entry-level service that is required for all customers.

B5. Is the BST a “limited basic” as described above? (yes/no) (1/1/10, 1/1/09)

B6. Name of tier. (If there is none, enter “na” for not applicable.) (1/1/10, 1/1/09)

B7. How many subscribers take only the basic service tier (BST)? (1/1/10, 1/1/09)

B8. Monthly price: Basic cable service tier (BST) (1/1/10, 1/1/09)

B9. Number of channels on the BST.* (1/1/10, 1/1/09)

B10. Is equipment needed to view the channels on the BST? (yes/no) (1/1/10, 1/1/09)

B11. What is the monthly fee to lease the most commonly-used equipment needed to view the channels on the BST? (1/1/10, 1/1/09)

B12. Identify the features that are included with this equipment: VOD, DVR, HD, other. (1/1/10, 1/1/09)

* Count local broadcast stations, PEG channels, commercial leased access channels, and any networks viewable for customers of the BST. The count should include the maximum number of channels available when purchasing the BST only, including channels that would require additional equipment, such as an SD or an HD converter box. Do not count audio-only channels such as DMX music suite. Do not count premium, pay-per-view or other pay channels unless they are viewed in the package at no additional charge. A Video-on-Demand channel that offers content at no additional charge can be counted as one channel.

Expanded Basic Service Package

In most cases, expanded basic service includes the limited basic BST channels plus a large number of national networks. However, if you answered “no” to Question B5 (you do not offer a limited basic tier) then BST and expanded basic service are the same, and Questions B13-B19 below are automatically filled.

Check box if this package was not offered last year.

B13. Name of package. (If there is none, enter “na” for not applicable.) (1/1/10, 1/1/09)

B14. Number of subscribers taking this package. (1/1/10, 1/1/09)

B15. Monthly price of package (including the price of the BST). (1/1/10, 1/1/09)

B16. Number of channels in this package (including BST channels).* (1/1/10, 1/1/09)

B17. Is equipment needed to view the channels in this package? (yes/no) (1/1/10, 1/1/09)

B18. What is the monthly fee to lease the most commonly-used equipment needed to view the channels in this package? (1/1/10, 1/1/09)

B19. Identify the features that are included with this equipment: VOD, DVR, HD, other. (1/1/10, 1/1/09)

* Count the maximum number of channels available when purchasing the package, including channels that would require additional equipment, such as an SD or an HD converter box. Do not count audio-only channels such as DMX music suite. Do not count premium, pay-per-view or other pay channels unless they are viewed in the package at no additional charge. A Video-on-Demand channel that offers content at no additional charge can be counted as one channel.

The Next Most-Subscribed Package

For this package include the expanded basic channels plus a group of additional video programming channels. Provide the most popular package that includes at least seven (7) additional non-premium, national cable networks.

Check box if this package was not offered last year.

B20. Name of package. (If there is none, enter “na” for not applicable.) (1/1/10, 1/1/09)

B21. Number of subscribers taking this package. (1/1/10, 1/1/09)

B22. Monthly price of this package (including expanded basic price). (1/1/10, 1/1/09)

B23. Number of channels in this package (including expanded basic channels).* (1/1/10, 1/1/09)

B24. Is equipment needed to view the channels in this package? (yes/no) (1/1/10, 1/1/09)

B25. What is the monthly fee to lease the most commonly-used equipment needed to view the channels in this package? (1/1/10, 1/1/09)

B26. Identify the features that are included with this equipment: VOD, DVR, HD, other. (1/1/10, 1/1/09)

* Count the maximum number of channels available when purchasing the package, including channels that would require additional equipment, such as an SD or an HD converter box. Do not count audio-only channels such as DMX music suite. Do not count premium, pay-per-view or other pay channels unless they are viewed in the package at no additional charge. A Video-on-Demand channel that offers content at no additional charge can be counted as one channel.

Family-Friendly Program Package

B27. As of Jan. 1, 2010, did you offer a family package in this community? (yes/no) (1/1/10). If no, skip to Section C, below.

B28. If you answered yes to question B27, did you report this package in response to the questions already asked about your program packages? (yes/no). If yes, skip to Section C, below.

B29. Name of package. (If there is none, enter “na” for not applicable.) (1/1/10, 1/1/09)

B30. Number of subscribers taking this package. (1/1/10)

B31. Monthly price of this package (including BST price). (1/1/10)

B32. Number of channels in this package (including BST channels).* (1/1/10)

B33. Is equipment needed to view the channels in this package? (yes/no) (1/1/10)

B34. What is the monthly fee to lease the most commonly-used equipment needed to view the channels in this package? (1/1/10)

* Count the maximum number of channels available when purchasing the package, including channels that would require additional equipment, such as an SD or an HD converter box. Do not count audio-only channels such as DMX music suite. Do not count premium, pay-per-view or other pay channels unless they are viewed in the package at no additional charge. A Video-on-Demand channel that offers content at no additional charge can be counted as one channel.

C. Channel Lineup

Rows:

C1. Number of local broadcast stations.

C2. Number of stations above for which a separate simulcast channel is carried.

C3. Number of public, educational & governmental (PEG) access channels.

C4. Number of commercial leased access channels.

Instruction: Do not list local broadcast stations, PEG channels or leased access channels separately. These channels have already been accounted for above. Do not include any networks that are available only through a VOD system.

* Note: When entering BST networks, the form automatically includes those networks in the other packages. If a package does not include all of the BST networks, then delete the entries for the appropriate networks for that package. Similarly, when entering expanded basic networks, the form automatically includes those networks in the next most-subscribed package.

Column:

Report number of channels.

Indicate if the channel(s) is on the BST.

Indicate if the channel(s) is on the expanded basic package.

Indicate if the channel(s) is on the next most-subscribed package.

Indicate if the channel(s) is on the family-friendly program package.

Rows listing individual regional and national networks.

Network

A&E

ABC Family

Africa Channel

AMC

AmericanLife TV

Animal Planet

BBC America

BBC World News

BET

BET Gospel

BET Hip-Hop

BET J

Big Ten

Bio

Blackbelt TV

Bloomberg

Bluehighways TV

Boomerang

Bravo

Bridges TV

Canal Sur

Cartoon

CBS: College Sports Ntwk.

Chiller

Cinemax

CMT

CMT Pure Country

CNBC

CNBC World

CNN

CNN en Espanol

CNN Intl. North America

Comedy Central

Crime & Investigation

C-SPAN

Current

De Pelicula

Discovery

Discovery en Espanol

Discovery Familia*

Discovery Health

Discovery Kids

Disney Channel

Disney XD

DIY

E!

Encore

ESPN Classic

ESPN/ESPN HD

ESPN2

ESPNews

ESPNU

FamilyNet

Fine Living

FitTV

Flix

Food Network

Fox Business Network

Fox College Sports

Fox Movie Channel

Fox News

Fox Reality

Fox Soccer Channel

Fox Sports en Espanol

Fuel

Fuse

FX Network

G4 videogame tv

Galavision

Golf Channel

Gospel Music Channel

Great American Country

GSN

Hallmark

Hallmark Movie Channel

HBO

HD Theater

HDNet

HDNet Movies

HGTV

History

History Channel en Esp.

History International

iaTV

Independent Film Channel

Inspiration Network

Investigation Discovery

Lifetime

Lifetime Movie Network

Lifetime Real Women

LOGO

MavTV

MGM HD

Military Channel

Military History

MLB Network

MSNBC

MTV

MTV Hits

MTV Jams

MTV Tr3s

MTV2

mun2

National Geographic

NBA TV

NFL Network

NHL Network

Nick Toons

Nickelodeon

Noggin

Outdoor Channel

Ovation TV

Oxygen

Palladia

PBS Kids Sprout

Planet Green

ReelzChannel

Regional Sports Network

Retirement Living TV

RFD-TV

Science Channel

Showtime

Si TV

Sleuth

Smithsonian Channel HD

SOAPnet

Speed Channel

Spike TV

Starz

style.

Sundance

Syfy

TBS

TCM

Tempo

Tennis Channel

The Movie Channel

The N

The Sportsman Channel

TLC

TNT

Travel Channel

truTV

TV Chile

TV Guide

TV Land

TV One

TVE Internacional

Universal HD

USA

VERSUS

VH-1

VH-1 Classic

VH-1 Soul

Water Channel

WE tv

Wealth TV

Weather

WGN America

FCC Notice Required by the Paperwork Reduction Act

We have estimated that each response to this collection of information will take, on average, 6 hours. Our estimate includes the time to read the instructions, look through existing records, gather and maintain required data, and actually complete and review the response. If you have any comments on this estimate, or on how we can improve the collection and reduce the burden it causes you, please write to the Federal Communications Commission, AMD-PERM, Paperwork Reduction Project (3060-0647), Washington, DC 20554. We will also accept your comments via the Internet if you send them to PRA@fcc.gov. Remember—you are not required to respond to a collection of information sponsored by the Federal government, and the government may not conduct or sponsor this collection, unless it displays a currently valid OMB control number or if we fail to provide you with this notice. This collection has been assigned an OMB control number of 3060-0647.

[FR Doc. 2010-3490 Filed 2-22-10; 8:45 am]

BILLING CODE 6712-10-P